NATIONAL AERONAUTICS AND SPACE ADMINISTRATION

48 CFR Parts 1804, 1813, 1815, 1825, and 1852

RIN 2700-AC33

Conformance With FAC 01-07 and Miscellaneous Administrative and Technical Changes

AGENCY: National Aeronautics and Space Administration.

ACTION: Final rule.

SUMMARY: This final rule revises the NASA FAR Supplement (NFS) to remove language pertaining to the Balance of Payments Program as a result of Federal Acquisition Circular (FAC) 01-07, and make miscellaneous administrative and technical changes. These changes are required to conform to the FAR, clarify administrative procedures, and correct references.

EFFECTIVE DATE: August 6, 2002.

FOR FURTHER INFORMATION CONTACT: Celeste Dalton, NASA, Office of Procurement, Contract Management Division (Code HK), (202) 358-1645, e-mail: cdalton@hq.nasa.gov.

SUPPLEMENTARY INFORMATION:

A. Background

Item II of Federal Acquisition Circular (FAC) 01-07 removed Subpart 25.3, Balance of Payments Programs. This change makes conforming changes to NFS parts 1825 and 1852 as a result of FAC 01-07. Additionally, this final rule makes administrative changes in section 1804.670, Individual Procurement Action Report (NASA 507 series); removes redundant language in section 1804.7403, Procedures, regarding offeror registration in the Central Contractor Registration (CCR) database and contract award; and clarifies the prescription language for NFS provisions in 1813.302-570 and 1815.209-70, NASA solicitation provisions.

Finally, this final rule makes technical corrections to organizational addresses and reference citations.

B. Regulatory Flexibility Act

This final rule does not constitute a significant revision within the meaning of FAR 1.501 and Public Law 98-577, and publication for public comment is not required. However, NASA will consider comments from small entities concerning the affected NFS Parts 1804, 1813, 1815, 1825, and 1852 in accordance with 5 U.S.C. 610.

C. Paperwork Reduction Act

The Paperwork Reduction Act does not apply because the changes do not impose recordkeeping or information collection requirements which require the approval of the Office of Management and Budget under 44 U.S.C. 3501, et seq.

List of Subjects in 48 CFR Parts 1804, 1813, 1815, 1825, and 1852

Government procurement.

Tom Luedtke,
Assistant Administrator for Procurement.

Accordingly, 48 CFR parts 1804, 1813, 1815, 1825, and 1852 are amended as follows:

1. The authority citation for 48 CFR parts 1804, 1813, 1815, 1825, and 1852 continues to read as follows:

Authority: 42 U.S.C. 2473(c)(1).

PART 1804—ADMINISTRATIVE MATTERS

1804.601 [Amended]

2. Amend section 1804.601 by removing “(Code HS)” and adding “(Code HC)” in its place.

1804.602 [Amended]

3. Amend section 1804.602 in paragraph (d) by removing “Code HS” and adding “Code HC” in its place.

4. Revise section 1804.670 to read as follows:

1804.670 Individual Procurement Action Report (NASA Form 507 series).

The Individual Procurement Action Report and Supplements (NASA Form 507 series) provide essential procurement records and statistics through a single uniform reporting program as a basis for required recurring and special reports to Congress, Federal Procurement Data Center, and other Federal agencies. The preparation and utilization of the NASA Form 507 series are integral parts of the agencywide Financial and Contractual Status (FACS) system. The Headquarters Office of Procurement issues Procurement Information Circulars (PICs) to—

(a) Identify the procurement actions subject to reporting; and

(b) Provide instructions on preparation of the NASA Forms 507.

1804.670-1, 1804.670-2, and 1804.670-3 [Removed]

5. Remove sections 1804.670-1, 1804.670-2, and 1804.670-3.

1804.7402 [Amended]

6. Amend section 1804.7402 in the first sentence of the introductory text by removing “after March 31, 2001”.

7. Amend section 1804.7403 by removing “must” in paragraphs (a)(1) and (c) and adding “shall” in its place; and revising paragraph (b) to read as follows:

1804.7403 Procedures.

* * * * *

(b) If the contracting officer determines that a prospective awardee is not registered in the CCR database, the contracting officer shall —

(1) If delaying the acquisition would not be to the detriment of the Government, proceed to award after the contractor is registered; or

(2) If delaying the acquisition would be to the detriment of the Government, proceed to award to the next otherwise successful registered offeror, with the written approval of the Procurement Officer.

* * * * *

PART 1813—SIMPLIFIED ACQUISITION PROCEDURES

8. Revise section 1813.302-1 to read as follows:

1813.302-1 General.

(a) See 1813.003(g).

9. Amend section 1813.302-570 by revising paragraphs (a)(1) and (b) to read as follows:

1813.302-570 NASA solicitation provisions.

(a)(1) The contracting officer may use the provision at 1852.213-70, Offeror Representations and Certifications—Other Than Commercial Items, in simplified acquisitions exceeding the mircro-purchase threshold that are for other than commercial items. This provision shall not be used for acquisition of commercial items as defined in FAR 2.101.

* * * * *

(b) The contracting officer may insert a provision substantially the same as the provision at 1852.213-71, Evaluation—Other than Commercial Items, in solicitations using simplified acquisition procedures for other than commercial items when a trade-off source selection process will be used, that is, factors in addition to technical acceptability and price will be considered. (See FAR 13.106.)

PART 1815—CONTRACTING BY NEGOTIATIONS

10. In section 1815.209-70, revise paragraphs (b) and (c) to read as follows:

1815.209-70 NASA solicitation provisions.

* * * * *

(b) When it is not in the Government's best interest to make award for less than the specified quantities solicited for certain items or groupings of items, the contracting officer shall insert the provision at

1852.214-71, Grouping for Aggregate Award. See 1814.201-670(b).

(c) When award will be made only on the full quantities solicited, the contracting officer shall insert the provision at 1852.214-72, Full Quantities. See 1814.201-670(c).

* * * * *

PART 1825—FOREIGN ACQUISITION

1825.400 [Amended]

11. Amend section 1825.400 by removing “and the Balance of Payments Program apply” and adding “applies” in its place.

PART 1852—SOLICITATION PROVISIONS AND CONTRACT CLAUSES

1852.213-70 [Amended]

12. Amend section 1852.213-70 by—

a. In the provision heading, removing “(JUN 2002)” and adding “(JULY 2002)” in its place;

b. Removing “—Balance of Payments Program” in the introductory text of paragraph (e) (twice), and from paragraph (e)(1);

c. Removing “—Balance of Payments Program” in paragraph (f)(1) (twice), and from paragraphs (f)(1)(i), (f)(1)(ii), (f)(1)(iii), (f)(2) (twice), and (f)(3) (twice);

d. Removing “or the Balance of Payments Program” in paragraph (f)(4)(iii); and

e. In the introductory text of paragraph (g), removing “(j)(1)” and adding “(g)(1)” in its place.

[FR Doc. 02-19815 Filed 8-5-02; 8:45 am]

BILLING CODE 7510-01-P